SURFACE TRANSPORTATION BOARD

[Docket No. AB 33 (Sub-No. 346X)]

Union Pacific Railroad Company—Abandonment Exemption—in Kootenai County, Idaho

On September 18, 2020, Union Pacific Railroad Company (UP) filed with the Surface Transportation Board (Board) a petition under 49 U.S.C. 10502 for exemption from the prior approval requirements of 49 U.S.C. 10903 to abandon an approximately 1 .16-mile portion of the Coeur D'Alene Industrial Lead, between milepost 1.09 and milepost 2.25, in Coeur D'Alene, Kootenai County, Idaho (the Line). The Line traverses U.S. Postal Service Zip Code 83854.

According to UP, there is one shipper, AmeriGas Propane (AmeriGas), on the Line. UP states that AmeriGas has reached an agreement with the Idaho Department of Transportation (IDOT) to relocate its facility off of the Line. (Pet. 2.) UP states that the abandonment will facilitate an IDOT project to expand Highway 41 and that it intends to convey the property to IDOT for use as a trail, subject to the issuance of a notice of interim trail use or abandonment (NITU).¹ (Id.)

¹ Although UP states that IDOT's use of the right-of-way as a trail would be subject to a certificate of interim trail use or abandonment (CITU), the Board issues CITUs in abandonment application proceedings and NITUs in abandonment exemption proceedings.

UP states that, based on the information in its possession, the Line does not contain any federally granted rights-of-way. (Id. at 3.) Any documentation in UP's possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by January 6, 2021.

Any offer of financial assistance (OFA) under 49 CFR 1152.27(b)(2) will be due no later than 120 days after the filing of the petition for exemption, or 10 days after service of a decision granting the petition for exemption, whichever occurs sooner. Persons interested in submitting an OFA must first file a formal expression of intent to file an offer by October 18, 2020, indicating the type of financial assistance they wish to provide (i.e., subsidy or purchase) and demonstrating that they are preliminarily financially responsible. See 49 CFR 1152.27(c)(1)(i).

Following authorization for abandonment, the Line may be suitable for other public use, including interim trail use. Any request for a public use condition under 49 CFR 1152.28 or for interim trail use/rail banking under 49 CFR 1152.29 will be due no later than October 28, 2020.²

² Filing fees for OFAs and trail use requests can be found at 49 CFR 1002.2(f)(25) and (27), respectively.

All pleadings, referring to Docket No. AB 33 (Sub-No. 346X), should be filed with the Surface Transportation Board via e-filing on the Board's website. In addition, a copy of each pleading must be served on UP's representative, Jeremy M. Berman, Union Pacific Railroad Company, 1400 Douglas Street, Stop 1580, Omaha, NE 68179. Replies to the petition are due on or before October 28, 2020.

Persons seeking further information concerning abandonment procedures may contact the Board's Office of Public Assistance, Governmental Affairs, and Compliance at (202) 245-0238 or refer to the full abandonment regulations at 49 CFR part 1152. Questions concerning environmental issues may be directed to the Board's Office of Environmental Analysis (OEA) at (202) 245-0305. Assistance for the hearing impaired is available through the Federal Relay Service at (800) 877-8339.

An environmental assessment (EA) (or environmental impact statement (EIS), if necessary) prepared by OEA will be served upon all parties of record and upon any agencies or other persons who comment during its preparation. Other interested persons may contact OEA to obtain a copy of the EA (or EIS). EAs in abandonment proceedings normally will be made available within 60 days of the filing of the petition. The deadline for submission of comments on the EA generally will be within 30 days of its service.

Board decisions and notices are available at www.stb.gov.

Decided: October 2, 2020.
By the Board, Allison C. Davis, Director, Office of Proceedings.
Tammy Lowery,
Clearance Clerk.

[FR Doc. 2020-22335 Filed 10-7-20; 8:45 am]

BILLING CODE 4915-01-P